DEPARTMENT OF ENERGY

Federal Energy Regulatory Commission

[Project No. P-2375-035]

International Paper Company; Notice of Availability of Environmental Assessment

September 30, 2002.

In accordance with the National Environmental Policy Act of 1969, as amended, and the Federal Energy Regulatory Commission's (Commission) regulations (18 CFR part 380), Commission staff have reviewed an application for a non-capacity related license amendment at the Riley-Jay-Livermore Project, FERC No. 2375, and have prepared an Environmental Assessment (EA) on the application. The project is located on Androscoggin River at the junction of Franklin, Androscoggin, and Oxford Counties, Maine.

Specifically, the project licensee (International Paper Company) has requested Commission approval to amend the present license to maintain the existing Livermore powerhouse as is, and construct a new powerhouse to contain a single new turbine and generator with an installed capacity of 1 MW. This unit will discharge into the upper portion of the lower bypass reach and will serve as a minimum flow unit with a hydraulic capacity of 450 cfs, which would bring the Livermore development's total hydraulic capacity to 3,906 cfs, instead of the authorized hydraulic capacity of 5,400 cfs. The authorized installed capacity of the project would be reduced from 23,185 kW to 19,725 kW. In the EA, Commission staff have analyzed the probable environmental effects of the proposed amendment and have concluded that approval of the proposal, with appropriate environmental measures, would not constitute a major Federal action significantly affecting the quality of the human environment.

Copies of the EA are available for review in Public Reference Room 2-A of the Commission's offices at 888 First Street, NE., Washington, DC. The EA also may be viewed on the Commission's Internet Web site (http://www.ferc.gov) using the “FERRIS” link. Additional information about the project is available from the Commission's Office of External Affairs, at (202) 502-6088 or on the Commission's Web site using the FERRIS link. Click on the FERRIS link, enter the docket number excluding the last three digits in the Docket Number field. Be sure you have selected an appropriate date range. For assistance with FERRIS, the FERRIS helpline can be reached at 1-866-208-3676, TTY (202) 502-8659, or by e-mail to FERCONLINESUPPORT@FERC.GOV. The FERRIS link on the FERC's Internet website also provides access to the texts of formal documents issued by the Commission, such as orders, notices, and rulemakings.

Linwood A. Watson, Jr.,
Deputy Secretary.

[FR Doc. 02-25259 Filed 10-3-02; 8:45 am]

BILLING CODE 6717-01-P